ENVIRONMENTAL PROTECTION AGENCY

40 CFR Part 52

[EPA-R10-OAR-2012-0581; A-1-FRL-9827-7]

Approval and Promulgation of Air Quality Implementation Plans; Idaho Amalgamated Sugar Company Nampa BART Alternative

AGENCY: Environmental Protection Agency (EPA).

ACTION: Proposed rule.

SUMMARY: The Environmental Protection Agency (EPA) is proposing to approve a revised BART determination and an alternate control measure for The Amalgamated Sugar Company, LLC. (TASCO) plant located in Nampa, Canyon County, Idaho, to meet the requirements of Best Available Retrofit Technology (BART) for regional haze. The EPA previously approved the State's BART determination for TASCO as meeting the requirements for the regional haze provisions in the Clean Air Act (CAA) on June 22, 2011. On June 29, 2012, the State of Idaho submitted revisions to its Regional Haze State Implementation Plan that included a revised BART determination for the TASCO facility, a revised emission limitation for particulate matter (PM), and an alternative control measure for TASCO to replace the Federally approved sulfur dioxide (SO2) BART determination. The EPA proposes to vacate the previously approved SO2 BART determination for TASCO, approve the revised BART determination, the revised emission limitation, and the alternative control measure at TASCO.

DATES: Written comments must be received on or before July 29, 2013.

ADDRESSES: Submit your comments, identified by Docket ID No. EPA-R10-OAR-2012-0581, by one of the following methods:

A. www.regulations.gov. Follow the on-line instructions for submitting comments.

B. Mail: Steve Body, EPA, Office of Air, Waste, and Toxics, AWT-107, 1200 Sixth Avenue, Suite 900, Seattle, Washington 98101.

C. Email: body.steve@epa.gov [or R10-Public_Comments@epa.gov]

D. Hand Delivery: EPA, Region 10 Mailroom, 9th Floor, 1200 Sixth Avenue, Seattle, Washington 98101. Attention: Steve Body, Office of Air Waste, and Toxics, AWT-107. Such deliveries are only accepted during normal hours of operation, and special arrangements should be made for deliveries of boxed information.

Instructions: Direct your comments to Docket ID No. EPA-R10-OAR-2012-0581. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material is not placed on the Internet and will be publicly available only in hard copy form. Publicly available docket materials are available either electronically in www.regulations.gov or in hard copy during normal business hours at the Office of Air, Waste and Toxics, EPA Region 10, 1200 Sixth Avenue, Seattle, Washington 98101.

FOR FURTHER INFORMATION CONTACT: Steve Body, (206) 553-0782, or by email at body.steve@epa.gov.

SUPPLEMENTARY INFORMATION: Throughout this document whenever “we,” “us,” or “our” is used, we mean the EPA. Information is organized as follows:

Table of Contents

I. Background

II. Regional Haze Rule Provisions for BART Alternative Measures

III. Idaho's State Implementation Plan (SIP) Revision Submittal

IV. The EPA's Evaluation of SIP Revision Submittal

V. The EPA's Proposed Action

VI. Statutory and Executive Order Review

I. Background

In the Clean Air Act (CAA) Amendments of 1977, Congress established a program to protect and improve visibility in the Nation's national parks and wilderness areas. See CAA section 169A. Congress amended the visibility provisions in the CAA in 1990 to focus attention on the problem of regional haze. See CAA section 169B. The EPA promulgated regional haze regulations (RHR) in 1999 to implement sections 169A and 169B of the Act. These regulations require states to develop and implement plans to ensure reasonable progress toward improving visibility in mandatory Class I Federal areas ¹ (Class I areas). 64 FR 35714 (July 1, 1999); see also 70 FR 39104 (July 6, 2005) and 71 FR 60612 (October 13, 2006).

¹ Areas designated as mandatory Class I Federal areas consist of national parks exceeding 6000 acres, wilderness areas and national memorial parks exceeding 5000 acres, and all international parks that were in existence on August 7, 1977. 42 U.S.C. 7472(a). In accordance with section 169A of the CAA, EPA, in consultation with the Department of Interior, promulgated a list of 156 areas where visibility is identified as an important value. 44 FR 69122 (November 30, 1979). The extent of a mandatory Class I area includes subsequent changes in boundaries, such as park expansions. 42 U.S.C. 7472(a). Although states and tribes may designate as Class I additional areas which they consider to have visibility as an important value, the requirements of the visibility program set forth in section 169A of the CAA apply only to “mandatory Class I Federal areas.” Each mandatory Class I Federal area is the responsibility of a “Federal Land Manager.” 42 U.S.C. 7602(i). When we use the term “Class I area” in this action, we mean a “mandatory Class I Federal area.”

Regional haze is impairment of visual range or colorization caused by air pollution, principally fine particulate, produced by numerous sources and activities, located across a broad regional area. The sources include but are not limited to, major and minor stationary sources, mobile sources, and area sources including non-anthropogenic sources. These sources and activities may emit fine particles (PM2.5) (e.g., sulfates, nitrates, organic carbon, elemental carbon, and soil dust), and their precursors (e.g., sulfur dioxide (SO2), nitrogen oxides (NOX), and in some cases, ammonia and volatile organic compounds). Fine particulate can also cause serious health effects and mortality in humans, and contributes to environmental effects such as acid deposition and eutrophication. See 64 FR at 35715.

Data from the existing visibility monitoring network, the “Interagency Monitoring of Protected Visual Environments” (IMPROVE) monitoring network, show that visibility impairment caused by air pollution occurs virtually all the time in most national parks and wilderness areas. The average visual range in many Class I areas in the western United States is 100-150 kilometers, or about one-half to two-thirds the visual range that would exist without manmade air pollution.² Visibility impairment also varies day-to-day and by season depending on variations in meteorology and emission rates. The deciview (dv) is the metric by which visibility is measured in the regional haze program. A change of 1 dv is generally considered the change in visual range that the human eye can perceive.

² Id.

The RHR requires each State's regional haze implementation plan to contain emission limitations representing BART and schedules for compliance with BART for each source subject to BART, unless the State demonstrates that an emissions trading program or other alternative will achieve greater reasonable progress toward natural visibility conditions. A State may opt to implement or require participation in an emission trading program or other alternative measure rather than require sources subject to BART to install, operate, and maintain BART.

On April 16, 2007, Idaho submitted to the EPA for approval new and revised rules that provide the Idaho Department of Environmental Quality (IDEQ) the regulatory authority to address regional haze and to implement BART (BART Authority rule). The EPA approved these rules on June 9, 2011. 76 FR 33651. Idaho submitted its Regional Haze State Implementation Plan as meeting the requirements of 40 CFR 51.308 to the EPA on October 25, 2010 (2010 RH SIP submittal). The 2010 RH SIP submittal covers the planning period of 2008 through 2018 and, among the other required elements, includes a BART determination for the TASCO facility in Nampa, Idaho. On June 22, 2011, the EPA approved the BART related provisions of Idaho's 2010 RH SIP submittal, including the final BART determination for the TASCO facility.³ 76 FR 36329. That approval incorporated by reference the September 7, 2010, TASCO Tier II Operating Permit No. T2-2009.0105 (2010 TASCO Tier II Operating Permit) that contained the emission limitations representing BART for TASCO. On November 8, 2012, EPA took final action to approve the remaining elements in the Idaho Regional Haze SIP. 77 FR 66929. Thus, Idaho's 2010 RH SIP is fully approved.

³ Upon EPA's final action, TASCO filed a petition for review in the Ninth Circuit Court of Appeals challenging EPA's approval of Idaho's BART determination for their Nampa facility. See Amalgamated Sugar v. EPA, No. 11-72445 (9th Cir.) The case is pending before the Ninth Circuit.

On June 29, 2012, Idaho submitted revisions (2012 RH SIP submittal) to the 2010 RH SIP that includes: a revised NOX BART determination; a more stringent particulate matter (PM) emission limitation; and an alternative control measure to replace the SO2 BART determination for TASCO's fossil fuel-fired Riley Boiler. This alternative control measure is also referred to as the BART Alternative. In addition to the new NOX and PM emission limitations on the Riley Boiler, the alternative control measure relies on control of NOX emissions from two other boilers at the TASCO facility in Nampa, that are not BART eligible emission units (non-BART boilers). The alternative measure also takes into account emission reductions resulting from the permanent shutdown of three coal fired pulp-dryers. The revised NOX BART determination, more stringent PM emission limitation, and the BART Alternative are contained in a revised Tier II Operating Permit, T2-2009.0105 issued to TASCO December 23, 2011 (2011 TASCO Tier II Operating Permit). As explained below this alternative measure and revised permit result in greater reasonable progress toward natural visibility conditions than the improvement expected from the BART determination previously approved.

II. Regional Haze Rule Provisions for BART Alternative Measures

The RHR contains provisions whereby a state may choose to implement an alternative measure as an alternative to BART, if the state can demonstrate that the alternative measure achieves greater reasonable progress toward achieving natural visibility conditions than would be achieved through the installation, operation and maintenance of BART. The requirements for alternative measures are established at 40 CFR 51.308(e)(2). As explained in the RHR, the state must demonstrate that all necessary emission reductions will take place during the first long term strategy period (i.e., by 2018) and that the emissions reductions resulting from the alternative measure will be surplus to those reductions resulting from measures adopted to meet requirements of the CAA as of the baseline date of the SIP.

The Idaho rules provide IDEQ authority to consider and adopt alternative measures as an alternative to BART. See IDAPA 58.01.01.668.06.⁴ The EPA approved this BART Alternative rule when it approved the Idaho BART Authority rule. 76 FR 33652 (June 9, 2011).

⁴ Specifically the IDEQ BART Alternative rule provides: “BART Alternative. As an alternative to the installation of BART for a source or sources, the Department may approve a BART alternative. If the Department approves source grouping as a BART alternative, only sources (including BART-eligible and non-BART eligible sources) causing or contributing to visibility impairment to the same mandatory Class I Federal Area may be grouped together: a. If a source(s) proposes a BART alternative, the resultant emissions reduction and visibility impacts must be compared with those that would result from the BART options evaluated for the source(s). b. Source(s) proposing a BART alternative must demonstrate that this BART alternative will achieve greater reasonable progress than would be achieved through the installation and operation of BART. c. Source(s) proposing a BART alternative shall include in the BART analysis an analysis and justification of the averaging period and method of evaluating compliance with the proposed emission limitation. IDAPA 58.01.01.668.06.”

Sources subject to BART must be in compliance with the BART emission limitations as soon as practical but no later than 5 years after EPA approves the implementation plan revision. 40 CFR 51.308(e)(1)(iv). The EPA approval of Idaho's BART provisions became effective July 22, 2011, thus TASCO must be in compliance with the BART requirements no later than July 22, 2016. Under the BART Alternative, as specified in the revised permit, TASCO must comply with the emission limitations by July 22, 2016, which is well within the first long term strategy period which ends December, 2018.

III. Idaho's SIP Revision Submittal

TASCO operates a sugar beet processing facility in Nampa, Idaho, that includes a fossil fuel fired boiler referred to as the “Riley Boiler”. The Riley Boiler is a BART eligible source and is subject to BART. In the final action on the BART provisions in the 2010 RH SIP submittal, the EPA approved IDEQ's BART determination for the Riley Boiler. 76 FR 36329. The approved BART level technology and emission limitations identified for the Riley Boiler and contained in the 2010 TASCO Tier II Operating Permit are:

PM: 14 pounds per hour (lbs/hr) and requires the emissions to be controlled using a baghouse;

SO2: 115 lbs/hr and requires the emissions to be controlled with spray-dry flue gas desulfurization (spray-dry FGD); and

NOx: 186 lbs/hr and requires the NOX emissions to be controlled using low NOX burners with overfire air (LNB-OFA).

Subsequent to the 2010 RH SIP submission and approval, TASCO submitted to IDEQ additional site-specific engineering analyses and a proposal for an alternative measure to replace the SO2 BART determination for its facility. Dispersion modeling was conducted to compare the visibility improvement expected from the alternative control measure to visibility improvement expected from implementation of BART. Based on the new information and proposal, IDEQ revised portions of Chapter 10 of the 2010 RH SIP and submitted the revisions, along with supporting technical documentation, to the EPA. The 2012 RH SIP submittal contains, among other elements, a new NOX BART determination for the Riley Boiler and the 2011 TASCO Tier II Operating Permit for the Riley Boiler.

The 2012 RH SIP submittal revises the NOX BART determination for the Riley Boiler. The 2010 RH SIP submittal identified low NOX burners (LNB), LNB with overfire air (OFA), and selective catalytic reduction (SCR) as all technically feasible NOX controls for the Riley Boiler. The State evaluated the cost effectiveness of each technology and determined that: LNB is cost effective at $921/ton; LNB-OFA is cost effective at $1270/ton with an incremental cost over LNB at $2431/ton. At that time, the State determined that SCR had a cost effectiveness value of $3768/ton and an incremental cost over LNB-OFA of $10,245/ton. In the 2010 RH SIP submittal, Idaho determined that SCR is not cost effective based on the incremental cost of SCR over the cost of LNB-OFA. In the final action on Idaho's 2010 RH SIP submittal, the EPA approved the State's BART determination. As explained, based on additional on-site engineering analysis conducted by TASCO, Idaho subsequently determined that neither LNB-OFA nor SCR are technically feasible at this facility. See 2012 RH SIP submittal, Chapter 10, Section 10.5. In the detailed engineering analysis conducted for installation of LNB-OFA, TASCO determined that there is insufficient space in the combustion chamber for LNB-OFA for adequate combustion and flame management. As also explained, TASCO and the State now consider SCR to be technically infeasible due to inadequate space between the boiler and baghouse and concerns about catalyst fouling and erosion. The analysis also determined that installation after the baghouse would not provide adequate exhaust temperature for SCR to function properly. Id. Thus, the 2012 RH SIP submittal finds that LNB is the only technically feasible NOX control technology for the Riley Boiler.

Regardless of the revised determination of what NOx control is technically feasible for the Riley Boiler, new, more stringent, BART emission limitations for NOx were included in the State's revised BART determination and the new, more stringent, NOx and PM emission limitations are included in the revised 2011Tier II Operating Permit. See 2012 RH SIP submittal Chapter 10, Section 10.5 Table 3, and 2011 TASCO Tier II Operating Permit Condition 3.4. The revised NOx BART determination is based on LNBs for NOx control. The revised NOx BART determination for the Riley Boiler strengthens the emission limitations from 186 lbs/hr to 147 lbs/hr, and results in a 21% reduction in NOx emissions from the original BART determination for the Riley Boiler. It also changes the identified control technology for NOx upon which the BART emission limitation is based, from LNB-OFA to LNBs. As explained below, this new BART determination and more stringent emission limitations were used in the demonstration that the BART Alternative provides for greater reasonable progress to achieve natural visibility conditions than BART.

The 2012 RH SIP submittal also proposes as a BART Alternative an alternative measure to the SO2 BART determination for the Riley Boiler. This alternative measure covers six emission units at the TASCO facility: the Riley Boiler, the Babcock & Wilcox (B&W) Boilers #1 and #2, and the South, Center, and North Pulp dryers. The alternative measure replaces the spray-dry FGD SO2 control on the Riley Boiler with LNB NOx control on the B&W Boilers #1 & #2 and takes into account the emission reductions resulting from the shutdown of the three pulp dryers. Thus, the retrofit of the coal-fired low-NOx burners on the B&W Boilers and resulting NOx reductions and credit for the permanent shutdown of the three pulp dryers are intended to replace the BART SO2 emission limitation for the Riley Boiler. The controls for the B&W Boilers #1 & #2 and shutdown requirements for the South Pulp Dryer in the 2011 TASCO Tier II Operating Permit, (Condition 4.1) will become Federally enforceable upon final approval of this proposal. The permanent shutdown of the Center and North pulp dryers is Federally enforceable, as required by the September 30, 2002, TASCO Tier II permit currently in the Federally approved SIP. The 2011 TASCO Tier II Operating Permit also includes a revised PM limitation for the Riley Boiler, reducing the PM emission limitation from 14 lbs/hr to 12.4 lbs/hr. The strengthened PM emission limitation results in an 11% reduction in PM emissions from the emissions expected from the BART determination previously approved.

TASCO conducted air quality dispersion modeling to estimate visibility improvement in affected Class I areas in accordance with the three-state, Washington, Idaho, and Oregon BART Modeling Protocol to demonstrate greater reasonable progress in achieving natural visibility conditions. This protocol underwent extensive review and approval and formed the basis for much of the BART modeling for regional haze conducted in the Pacific Northwest, including modeling in Idaho's 2010 RH SIP submittal. In the 2012 RH SIP submittal, the State demonstrated the visibility improving advantages of the BART Alternative by comparing the visibility improvement of the revised BART for the Riley Boiler in the 2012 RH SIP submittal with the improvement resulting from the BART Alternative. The model input emissions for SO2, NOx and PM were determined for all six emission units included in the alternative measure: the Riley Boiler (SO2, NOx, and PM), B&W Boilers #1 and #2 (NOx), and the three coal-fired pulp dryers (SO2, NOx and PM). Three scenarios were modeled for all six emission units: baseline (pre-BART), revised BART for Riley Boiler, and the BART Alternative.

Emissions from the TASCO facility impairs visibility at seven mandatory Class I areas within 300 kilometers (km): Eagle Cap Wilderness Area, Oregon; Craters of the Moon National Monument, Idaho; Hells Canyon Wilderness Area, Oregon; Jarbidge Wilderness Area, Nevada; Sawtooth Wilderness Area, Idaho; Selway-Bitteroot Wilderness Area, Idaho; and the Strawberry Wilderness Area, Oregon. The results of this modeling effort for all seven Class I areas are presented in the 2012 RH SIP submittal, Chapter 10, Section 10.5, Table 6. The deciview impact for the 22nd highest day over the 2003 to 2005 time period is presented for each of the seven Class I areas. The submittal shows the number of days with impairment greater than 0.5 dv in the 2003 to 2005 time period.

The Table below presents the modeled visibility, at all Class I areas within 300 km of the TASCO facility at baseline conditions (2003 to 2005), under the revised BART, and under the proposed BART Alternative. As shown, the proposed BART Alternative achieves greater reasonable progress toward natural conditions than would be achieved through the installation, operation and maintenance of BART.

Table 1—Modeled Visibility Conditions
Class I area | Baseline visibility impact (dv) ᵃ ᵈ | Visibility impact under proposed revised BART (dv) ᵇ ᵈ | Visibility impact under proposed BART alternative (dv) ᶜ ᵈ | Additional visibility improvement with BART alternative vs revised BART (dv) ᵈ | Days above 0.5 dv baseline ᵉ | Days above 0.5 dv under revised BART ᵉ | Days above 0.5 dv under BART alternative ᵉ | Decrease in days >0.5 dv from BART alternative vs revised BART ᵉ
Eagle Cap Wilderness, OR | 2.201 | 1.512 | 1.411 | 0.101 | 195 | 149 | 126 | 23
Craters of the Moon Wilderness, ID | 0.393 | 0.267 | 0.245 | 0.022 | 10 | 4 | 3 | 1
Hells Canyon Wilderness, ID/OR | 1.582 | 1.092 | 1.059 | 0.033 | 129 | 87 | 80 | 7
Jarbidge Wilderness, NV | 0.375 | 0.256 | 0.234 | 0.022 | 8 | 5 | 5 | 0
Sawtooth Wilderness, ID | 0.47 | 0.319 | 0.307 | 0.012 | 18 | 6 | 6 | 0
Selway-Bitterroot Wilderness, ID | 0.439 | 0.281 | 0.298 | (0.017) | 15 | 3 | 4 | (1)
Strawberry Mountain Wilderness, OR | 1.462 | 1.076 | 0.917 | 0.159 | 80 | 62 | 51 | 11
ᵃ Includes pre-BART emissions of all sources involved in BART and the BART Alternative: Riley Boiler, B&W Boilers 1&2 and three pulp dryers.
ᵇ Includes all sources involved in BART and the BART Alternative under BART operations: Riley Boiler (LNB + SD-FGD), B&W Boilers 1&2, three pulp dryers operating.
ᶜ Includes all sources involved in BART and the BART Alternative under BART Alternative operations: Riley Boiler (LNB), B&W Boilers 1&2 (LNB), three pulp dryers shut down.
ᵈ The 22nd highest dv value for the three-year period (2003-2005).
ᵉ Total number of days in the three-year period that exceed 0.5 dv.

IV. The EPA's Evaluation of the SIP Revision Submittal

1. Revised BART Determination for the Riley Boiler

The provisions of 40 CFR part 51, Appendix Y, followed by Idaho, set forth the process used to identify control technologies and to consider the five statutory factors that must be evaluated as part of a BART determination. After site specific consideration of the factors, the best achievable retrofit technology is identified and the BART emission limitation is specified.

As discussed previously in this notice, based on a revised analysis conducted and provided by TASCO, Idaho determined that SCR is technically infeasible for the Riley Boiler. This new finding does not affect the State's final BART determination because, as the EPA previously agreed, Idaho's determination found that even if SCR was technically feasible it was not cost effective and thus, would not qualify as BART. 76 FR 3632. Thus, the 2012 RH SIP submittal determination that SCR is technically infeasible does not change the EPA's previous agreement that SCR is not BART for this facility. The EPA previously approved the NOX BART emission limitation for the Riley Boiler of 186 lbs/hr, based on LNB-OFA control technology. However, TASCO's further engineering analysis determined that while there is insufficient space in the combustion chamber for LNB-OFA for adequate combustion and flame management, LNB alone could achieve greater NOX control than the LNB-OFA control. Accordingly, Idaho revised its NOX BART determination to reflect the technology change, greater control and tighter emission limitations. The compliance date of July 22, 2016 remains unchanged.

In the 2012 RH SIP submittal, Idaho strengthened the NOX BART emission limitation to 147 lbs/hr based on TASCO's reassessment of LNB performance for the Riley Boiler. In light of TASCO's revised analysis that the original BART determination is not technically feasible and because the revised BART determination results in a more stringent NOX BART emission limitation, the EPA is proposing to vacate our original BART determination and approve the revised NOX BART determination and this new limitation for the TASCO facility.

The EPA previously approved Idaho's PM BART emission limitation for the Riley Boiler of 14 lbs/hr, based on baghouse control technology as provided in the 2010 RH SIP submittal. In the 2012 RH SIP submittal, Idaho strengthened the PM emission limitation to 12.4 lbs/hr, based on TASCO's analysis of the performance of the baghouse. The revised PM emission limitation is more stringent than the limitation previously approved and therefore the EPA is proposing to approve this revised PM limitation as a SIP strengthening measure.

2. Alternative to BART for the TASCO facility

The 2012 RH SIP submittal includes a proposed alternative measure to the previously approved SO2 BART determination for Riley Boiler. This alternative measure is intended to replace the SO2 BART emission limitation of 115 lb/hr for the Riley Boiler ⁵ with a combined NOX emission limitation on the B&W Boilers #1 and #2 of 103 lbs/hr, and takes into account the emission reductions resulting from the permanent shutdown of three coal-fired pulp dryers. The baseline emissions for all three pulp dryers are: NOX—191.2 lbs/hr; SO2—17.9 lbs/hr; and PM-927 lbs/hr. These emissions were permanently eliminated when the pulp dryers were shutdown.

⁵ Current statewide regulations limit the sulfur content of coal to 1% by weight. IDAPA 58.01.01.725.04. This limit would not be affected by the action proposed today and the limit remains applicable to the TASCO facility.

Installation of LNB control and establishing emission limitations on the B&W Boilers, along with permanently eliminating the emissions associated with the three pulp dryers, result in a total reduction in NOX of 221 t/y, SO2 of 20.6 t/y, and PM of 113 t/y. The B&W Boilers are non-BART units. The pulp dryers were shutdown because installation of a drying process using waste steam from the boilers instead of the pulp dryers reduced the fuel demand that resulted in a lower cost operation, eliminating the need for the pulp dryers. The shutdown of the pulp dryers is not required under the CAA. Thus, these emission reductions may be considered surplus. The total emissions are reduced under the BART Alternative measure compared to both the original 2010 RH SIP approved BART determination and the revised BART determination in the 2012 RH SIP submittal.

As presented in Table 1 above, dispersion modeling of visibility in all Class I areas within 300 km of the TASCO facility demonstrates there is overall greater progress towards achieving natural conditions under the BART Alternative. In particular, there is greater progress in the Eagle Cap Wilderness Area (the Class I area most impacted by emissions from the TASCO facility) of 0.101 dv under the BART alternative than under the revised BART determination and in the Strawberry Mountain Wilderness Area of 0.159 dv.

The 2011 TASCO Tier II Operating Permit, Permit Condition 3.3 requires compliance with the BART Alternative by July 22, 2016, the same compliance date as the approved BART. Additionally, the permit provides that unless LNBs have been installed and operating, as required in Permit Condition 3.7, on and after July 22, 2016, the Riley Boiler may be fired only using natural gas, and that on, and after July 22, 2016, the Riley Boiler may not be fired with coal until such date that the coal-fired LNBs are installed and operated in accordance with the permit. See 2011 TASCO Tier II Operating Permit, Permit Condition 3.9. Permit condition 14.9 of TASCO's Tier I Operating Permit T1-050020, issued May 23, 2006, required the North and Central pulp dryers to be permanently shut down and Permit Condition 4.1 of the 2011 TASCO Tier II Operating Permit, requires the South Pulp Dryer to be permanently shutdown. Thus, there is no delay in compliance with BART requirements under the BART Alternative.

The 2011 TASCO Tier II Operating Permit contains the emission limitations discussed above. See 2011 TASCO Tier II Operating Permit, Permit Condition 3.4 and 3.5. The permit also contains requirements for a non-visibility impairing pollutant, specifically carbon monoxide (CO). Permit Condition 3.12 requires performance testing for CO. The EPA proposes no action on this permit condition, as it does not pertain to visibility.

The second paragraph of Condition 3.3 of the Permit allows TASCO to submit a request to obtain IDEQ approved alternatives to BART and to revise the Permit and explains that IDEQ will process the request in accordance with its permitting rules. The condition further provides that the request must be submitted in time for any such revision to the permit and the corresponding revision to the RH SIP to be approved prior to July 22, 2016. This provision is administrative in nature and addresses the State's procedure for possible future revisions to the permit. As such it is not necessary or appropriate for EPA to act on this provision. Nevertheless, we note that a revision to a Federally approved permit must meet applicable Federal requirements before it could be incorporated into the Federally approved SIP. The EPA cannot assure Idaho or TASCO that any submitted BART Alternative measure will be approved until that measure has been thoroughly evaluated by the EPA as meeting Federal requirements.

V. The EPA's Proposed Action

The EPA is proposing to vacate our previous BART determination for the TASCO facility and to approve Idaho's 2012 RH SIP submittal including the revised NOX BART determination for the TASCO Riley Boiler and the 2011 TASCO Tier II Operating Permit containing the BART Alternative conditions 1.2 including the table of Regulated Emission Point Sources Table, 3.2, 3.3 (first paragraph only), 3.4, 3.5, 3.6, 3.7, 3.8, 3.9, 3.11, 3.13, 3.14, 3.15, 3.16, and 4.1. Specifically, the EPA proposes to approve new BART emission limitations for NOX, the revised PM emission limitations and the BART Alternative at the TASCO facility because they provide greater overall reasonable progress toward achieving natural conditions in affected Class I areas than the previously approved BART determination for the TASCO facility.

VI. Statutory and Executive Order Review

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the rule neither imposes substantial direct compliance costs on tribal governments, nor preempts tribal law. Therefore, the requirements of section 5(b) and 5(c) of the Executive Order do not apply to this rule.

List of Subjects in 40 CFR Part 52

Environmental protection, Air pollution control, Incorporation by reference, Intergovernmental relations, Nitrogen dioxide, Particulate matter, Reporting and recordkeeping requirements, Sulfur oxides, and Visibility.

Dated: June 14, 2013.
R. David Allnutt,
Acting Regional Administrator, Region 10.

[FR Doc. 2013-15442 Filed 6-27-13; 8:45 am]

BILLING CODE 6560-50-P